DEPARTMENT OF HEALTH AND HUMAN SERVICES

Office of the Secretary

[Document Identifier: OS-4040-XXXX-]

Emergency Clearance: Public Information Collection Requirements; Notice of Proposed Requirement to Establish Government-Wide Standard Data Elements for Use by All Federal Grant Making Agencies—Mandatory Grant Applications

AGENCY: Office of the Secretary, Grants.gov Program Management Office.

In compliance with the requirement of section 3506(c)(2)(A) of the Paperwork Reduction Act of 1995, the Office of the Secretary (OS), Department of Health and Human Services, is publishing the following summary of proposed collections for public comment. Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

1. Type of Information Collection Request: Emergency Clearance;

Title of Information Collection: SF-424 Mandatory (M);

Form/OMB No.: OS-4040-XXXX-;

Use: The SF-424(M) will become the government-wide data set for applications, plans, and related submissions under mandatory grant programs. Federal agencies and applicants/recipients under mandatory grant programs will use the standard data set and definitions for paper and electronic applications/plans/related submissions. At this time, the Federal agencies are proposing a set of data elements to be used as cover information. Additional standard data elements for other components of an application/plan, e.g., a standard budget, may be proposed at a later date.

The proposed standard data set will replace numerous agency data sets and reduce the administrative burden placed on the grants community. Federal agencies will not be required to collect all of the information included in the proposed data set. The agency will identify the data that must be provided by applicants through instructions that will accompany the application package.

Frequency: Recordkeeping, application, and on occasion;

Affected Public: Federal, State, local, or tribal governments, farms, and not for profit institutions;

Annual Number of Respondents: 1,161;

Total Annual Responses: 21,900;

Average Burden Per Response: 1 hour;

Total Annual Hours: 21,900;

To obtain copies of the supporting statement and any related forms for the proposed paperwork collections referenced above, access the HHS Web site address at http://www.hhs.gov/oirm/infocollect/pending/ or e-mail your request, including your address, phone number, OMB number, and OS document identifier, to naomi.cook@hhs.gov, or call the Reports Clearance Office on (202) 690-6162. Written comments and recommendations for the proposed information collections must be mailed by January 21, 2004, directly to the OS Paperwork Clearance Officer designated at the following address: Department of Health and Human Services, Office of the Secretary, Assistant Secretary for Budget, Technology, and Finance, Office of Information and Resource Management, Attention: Naomi Cook (4040-XXXX), Fax Number (202) 690-8715, Room 531-H, 200 Independence Avenue, SW., Washington, DC 20201.

Dated: December 22, 2004.
Robert E. Polson,
Office of the Secretary, Paperwork Reduction Act Reports Clearance Officer.

[FR Doc. 04-28647 Filed 12-30-04; 8:45 am]

BILLING CODE 4168-17-P